SURFACE TRANSPORTATION BOARD

Notice and Request for Comments

AGENCY: Surface Transportation Board.

ACTION: 60-Day notice of intent to seek extension of approval: Rail Depreciation Studies.

SUMMARY: As required by the Paperwork Reduction Act of 1995, 44 U.S.C. 3501-3521 (PRA), the Surface Transportation Board (STB or Board) gives notice of its intent to seek approval from the Office of Management and Budget (OMB) for an extension of the Rail Depreciation Studies. This information collection is described in detail below.

Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Rail Depreciation Studies.

OMB Control Number: 2140-0028.

Form Number: None.

Type of Review: Extension with change.

Respondents: Class I railroads.

Number of Respondents: 7.

Estimated Time per Response: Approximately 500 hours annually.

Frequency of Response: Bi-annual. (Under 49 CFR part 1201, sections 4-1 to 4-4, the Board requires all class 1 (large) carriers to submit depreciation studies no less than every three years for equipment property and every six years for road and track property. That means that for any given six year period the Class 1 railroads have to submit no less than three depreciation reports or the equivalent of 0.5 depreciation reports per year.)

Total Annual Hour Burden: 3,500 hours (500 hours × 7 Class I railroads).

Total Annual “Non-Hour Burden” Cost: Approximately $262,500 per year. Board staff estimates that each study will cost between $50,000 and $100,000, which equals a cost of approximately $25,000-$50,000 per year. Using an average cost ($37,500 per year × 7 Class I railroads), the non-hour burden cost is estimated to be approximately $262,500 per year.

Needs and Uses: Under 49 CFR part 1201, sections 4-1 to 4-4, the Board is required to identify those classes of property for which rail carriers may include depreciation charges under operating expenses, and the Board must also prescribe a rate of depreciation that may be charged to those classes of property. Pursuant to the Board's authority under 49 U.S.C. 11145, Class I rail carriers are required to submit Depreciation Studies to the Board. Information in these studies is not available from any other source. The Board uses the information in these studies to prescribe depreciation rates. These depreciation rate prescriptions state the period for which the depreciation rates therein are applicable. Class I railroads apply the prescribed depreciation rates to their investment base to determine monthly and annual depreciation expense. This expense is included in the railroads' operating expenses, which are reported in their R-1 reports (OMB Control Number 2140-0009). Operating expenses are used to develop operating costs for application in various proceedings before the Board, such as in rate reasonableness cases and in the determination of railroad revenue adequacy.

DATES: Comments on this information collection should be submitted by July 1, 2016.

ADDRESSES: Direct all comments to Chris Oehrle, Surface Transportation Board, 395 E Street SW., Washington, DC 20423-0001, or to PRA@stb.dot.gov. When submitting comments, please refer to “Rail Depreciation Studies.” For further information regarding this collection, contact Pedro Ramirez at (202) 245-0333 or at pedro.ramirez@stb.dot.gov. [Assistance for the hearing impaired is available through the Federal Information Relay Service (FIRS) at 1-800-877-8339.]

SUPPLEMENTARY INFORMATION: Under the PRA, a federal agency that conducts or sponsors a collection of information must display a currently valid OMB control number. A collection of information, which is defined in 44 U.S.C. 3502(3) and 5 CFR 1320.3(c), includes agency requirements that persons submit reports, keep records, or provide information to the agency, third parties, or the public. Under § 3506(c)(2)(A) of the PRA, federal agencies are required to provide, prior to an agency's submitting a collection to OMB for approval, a 60-day notice and comment period through publication in the Federal Register concerning each proposed collection of information, including each proposed extension of an existing collection of information.

Dated: April 27, 2016.
Jeffrey Herzig,
Clearance Clerk.

[FR Doc. 2016-10193 Filed 4-29-16; 8:45 am]

BILLING CODE 4915-01-P